DEPARTMENT OF COMMERCE

National Oceanic and Atmospheric Administration

50 CFR Part 635

[I.D. 051701G]

Atlantic Highly Migratory Species; Bluefin Tuna Recreational Fishery

AGENCY: National Marine Fisheries Service (NMFS), National Oceanic and Atmospheric Administration (NOAA), Commerce.

ACTION: Retention limit adjustments.

SUMMARY: NMFS adjusts the daily retention limit for the recreational fisheries for Atlantic bluefin tuna (BFT) for the fishing year that began June 1, 2001, and ends May 31, 2002. Vessels permitted in the Atlantic Tunas Angling and the Atlantic Highly Migratory Species (HMS) Charter/Headboat categories are eligible to land BFT under the BFT Angling category quotas. The seasonal adjustments to the daily retention limit and the measurements for each BFT size class are specified in the DATES and SUPPLEMENTARY INFORMATION section of this document. This action is being taken to provide increased fishing opportunities in all areas without risking overharvest of this category.

DATES: Effective June 15 through October 31, 2001, the daily retention limit in all areas for all vessels fishing under the Angling category quota is adjusted to four BFT per vessel, which may be from the school, large school, or small medium size class.

Effective November 1, 2001 through May 31, 2002, the daily retention limit in all areas is adjusted to one large school or small medium BFT for all vessels fishing under the Angling category quota.

FOR FURTHER INFORMATION CONTACT: Brad McHale, (978) 281-9260.

SUPPLEMENTARY INFORMATION: Regulations implemented under the authority of the Atlantic Tunas Convention Act (16 U.S.C. 971 et seq.) and the Magnuson-Stevens Conservation and Management Act (16 U.S.C. 1801 et seq.) governing the harvest of BFT by persons and vessels subject to U.S. jurisdiction are found at 50 CFR part 635.

Implementing regulations for the Atlantic tuna fisheries at § 635.23 set the daily retention limits for the BFT recreational fishery and allow for adjustments to the daily retention limits in order to provide for maximum utilization of the quota over the longest possible period of time. NMFS may increase or reduce the per angler retention limit for any size class BFT or may change the per angler limit to a per boat limit or the per boat limit to a per angler limit. Size class categories of BFT are defined as follows: school size BFT measure 27 to less than 47 inches (69 to less than 119 cm) curved fork length (CFL); large school BFT measure 47 to less than 59 inches (119 to less than 150 cm) CFL; small medium BFT measure 59 to less than 73 inches (150 to less than 185 cm) CFL; large medium BFT measure 73 to less than 81 inches (185 to less than 206 cm) CFL; and giant BFT measure 81 inches or greater (206 cm or greater) CFL.

A recommendation of the International Commission for the Conservation of Atlantic Tunas (ICCAT) requires that NMFS limit the catch of school BFT to no more than 8 percent by weight of the total domestic landings quota over each 4-consecutive-year period. NMFS is implementing this ICCAT recommendation through annual and inseason adjustments to the school BFT retention limits, as necessary, and through the establishment of a school BFT reserve (64 FR 29090, May 28, 1999; 64 FR 29806, June 3, 1999).

The ICCAT recommendation allows for interannual adjustments for overharvests and underharvests, provided that the 8-percent landings limit is met over the applicable 4-consecutive-year period. The 2001 fishing year is the third year in the current accounting period. This multi-year block quota approach provides NMFS with the flexibility to enhance fishing opportunities and to collect information on a broad range of BFT size classes.

Regulations at 50 CFR 635.23(b) restrict vessels fishing under the BFT Angling category quota to one BFT per vessel per day, which may be from the school, large school, or small medium category and, in addition, one large medium or giant BFT per vessel per year. This retention limit is subject to adjustment to provide for maximum utilization of the quota and enhanced fishing opportunities over the range of the recreational fisheries. NMFS has received comment from BFT fishermen that the implementation of an increased daily retention limit over a date-certain period is preferable to a longer season with a lower daily retention limit as it facilitates the scheduling of fishing trips, particularly charter trips.

Since the beginning of the fishing year on June 1, 2001, the default Angling category daily retention limit at 50 CFR 635.23(b) has been in effect and applies until the effective date of this catch limit adjustment. Effective June 15 through October 31, 2001, NMFS adjusts the recreational fishing daily retention limit for all fishing areas to four BFT in any combination of the school, large school, or small medium size classes. This limit applies to all vessels permitted in the Atlantic Tunas Angling category and to vessels permitted in the Atlantic HMS Charter/Headboat category.

From November 1, 2001, through May 31, 2002, the daily retention limit for all vessels fishing under the Angling category quota will be adjusted to one large school or small medium BFT per vessel. Regardless of the length of the trip, no more than a single day’s allowable catch may be possessed or retained.

NMFS selected the daily retention limit and the duration of the daily retention limit adjustment after examining past catch and effort rates and the available quota for 2001. NMFS will continue to monitor the Angling category fishery closely through the Automated Landings Reporting System, the state harvest tagging programs in North Carolina and Maryland, and the Large Pelagics Survey. Depending on the level of fishing effort and catch rates of BFT, NMFS may determine that an interim closure or an additional retention limit adjustment is necessary to enhance scientific data collection from, and fishing opportunities in, all geographic areas. Additionally, NMFS may determine that an allocation from the school BFT reserve is warranted to further fishery management objectives.

Closures or subsequent adjustments to the daily retention limit, if any, will be announced through publication in the Federal Register. In addition, anglers may call the Atlantic Tunas Information Line at (888) 872-8862 or (978) 281-9305 for updates on quota monitoring and retention limit adjustments. Anglers aboard Atlantic HMS Charter/Headboat category vessels, when engaged in recreational fishing for school, large school, and small medium BFT, are subject to the same rules as anglers aboard Angling category vessels.

All BFT landed under the Angling category quota must be reported within 24 hours of landing to the NMFS Automated Landings Reporting System via toll-free phone at (888)872-8862; or the Internet (www.nmfspermits.com); or, if landed in the states of North Carolina or Maryland, to a reporting station prior to offloading. Information about these state harvest tagging programs, including reporting station locations, can be obtained in North Carolina by calling (800) 338-7804, and in Maryland by calling (410) 213-1531.

In addition, anglers aboard permitted vessels may continue to tag and release BFT of all sizes under a tag-and-release program, provided the angler tags all BFT so caught, regardless of whether previously tagged, with conventional tags issued or approved by NMFS, returns such fish to the sea immediately after tagging with a minimum of injury, and reports the tagging, and, if the BFT was previously tagged, the information on the previous tag (50 CFR 635.26).

Classification

This action is taken under 50 CFR 635.23(b)(3). This action is exempt from review under E.O. 12866.

Authority: 16 U.S.C. 971 et seq. and 1801 et seq.

Dated: June 8, 2001.
Samuel W. McKeen,
Acting Director, Office of Sustainable Fisheries, National Marine Fisheries Service.

[FR Doc. 01-14921 Filed 6-8-01; 4:20 pm]

BILLING CODE 3510-22-S